DEPARTMENT OF COMMERCE

National Oceanic and Atmospheric Administration

Proposed Information Collection; Comment Request; American Fisheries Act: Vessel and Processor Permit Applications

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 24, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Patsy A. Bearden, 907-586-7008 or patsy.bearden@noaa.gov.

SUPPLEMENTARY INFORMATION:

I. Abstract

The American Fisheries Act (AFA) was signed into law in October of 1998. The AFA established an allocation program for the pollock fishery of the Bering Sea and Aleutian Islands Management Area (BSAI). The purposes of the AFA were to tighten U.S. ownership standards that had been exploited under the Anti-reflagging Act, to provide Alaska's BSAI pollock fleet the opportunity to conduct their fishery in a more rational manner, and to protect non-AFA participants in other fisheries.

Reduced bycatch, higher utilization rates, increased economic returns, and improved safety are among the direct benefits of the AFA. The flexibility provided by cooperatives and by individual vessel allocations of pollock and other species has allowed the BSAI pollock fleet to spread their fishing effort in time and space, thus somewhat mitigating the negative impacts of the Steller sea lion (SSL) conservation and protection measures. Finally, the cooperative management structure has shifted more of the monitoring and enforcement burden to the cooperatives and their members, allowing NMFS to manage the fishery more precisely.

Under the AFA, only vessels and processors that meet specific qualifying criteria are eligible to fish for and process pollock in the BSAI. The BSAI pollock quota is suballocated to groups of vessel owners who form fishing vessel cooperatives under the AFA.

All pollock vessels and processors are required to have a valid AFA permit on board the vessel or at the processing plant. The AFA vessel and processor permits have no expiration date and will remain valid indefinitely unless revoked by NMFS. With the exceptions of applications for inshore vessel cooperatives and for replacement vessels, the AFA permit program had a one-time application deadline of December 1, 2000. Inshore catcher vessel cooperatives must apply for an AFA permit annually, by December 1 for the following fishing year. The information is collected once a year, because NMFS must identify the universe of participating vessels and processors prior to the start of each fishing year in order to assign allocations of pollock to eligible cooperatives. The applications to replace lost or destroyed AFA vessels may be submitted to NMFS at any time.

II. Method of Collection

Paper applications are required from participants. Methods of submittal include facsimile transmission of paper forms, except where a notary seal is required.

III. Data

OMB Number: 0648-0393.

Form Number: None.

Type of Review: Regular submission.

Affected Public: Individuals or households; business or other for-profits organizations.

Estimated Number of Respondents: 20.

Estimated Time per Response: 2 hours for Application for AFA catcher vessel permit; 30 minutes for Application for AFA permit for replacement vessel; 2½ hours for Application for AFA inshore catcher vessel cooperative permit; 2 hours for Application for AFA mothership permit; and 2 hours for Application for AFA inshore processor permit.

Estimated Total Annual Burden Hours: 42.

Estimated Total Annual Cost to Public: $59.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 17, 2006.
Gwellnar Banks,
Management Analyst, Office of the Chief Information Officer.

[FR Doc. E6-671 Filed 1-20-06; 8:45 am]

BILLING CODE 3510-22-P